DEPARTMENT OF THE TREASURY

Submission for OMB Review; Comment Request

July 18, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 25, 2008 to be assured of consideration.

Alcohol and Tobacco Tax and Trade Bureau (TTB)

OMB Number: 1513-0099.

Type of Review: Extension.

Title: Administrative Remedies—Closing Agreements.

Description: This is a written agreement between TTB and regulated taxpayers used to finalize and resolve certain tax-related issues. Once an agreement is approved, it will not be reopened unless fraud or misrepresentation of material facts is proven.

Respondents: Businesses or other for-profit institutions.

Estimated Total Burden Hours: 1 hour.

OMB Number: 1513-0075.

Type of Review: Revision.

Title: Proprietors or Claimants Exporting Liquors, TTB REC 5900/1.

Description: Distilled spirits, wine, and beer may be exported from bonded premises without payment of excise taxes or they may be exported if their taxes have been paid and the exporters may claim drawback of the taxes paid. The recordkeeping requirement makes it possible to trace movement of distilled spirits, wine, and beer, thus enabling TTB officers to verify the amount of these liquors eligible for exportation without payment of tax or exportation subject to drawback.

Respondents: Business and other for profits.

Estimated Total Burden Hours: 7,200 hours.

OMB Number: 1513-0073.

Type of Review: Revision.

Title: Manufacturers of Nonbeverage Products—Records to Support Claims for Drawback, TTB REC 5530/2.

Description: Records required to be maintained by manufacturers of nonbeverage products are used to prevent diversion of drawback spirits to beverage use. The records are necessary to maintain accountability over these spirits. The records make it possible to trace spirits using audit techniques, thus enabling TTB officers to verify the amount of spirits used in nonbeverage products and subsequently claimed as eligible for drawback of tax. The record retention requirement for this information collection is 3 years.

Respondents: Business and other for profits.

Estimated Total Burden Hours: 10,521 hours.

OMB Number: 1513-0023.

Type of Review: Revision.

Title: Environmental Information; and Supplemental Information on Water Quality Consideration under 33 U.S.C. 1341(a).

Form: TTB F 5000.29 and 5000.30.

Description: TTB F 5000.29 is used to determine whether an activity will have a significant effect on the environment and to determine if a formal environmental impact statement or an environmental permit is necessary for a proposed operation. TTB F 5000.30 is used to make a determination as to whether a certification or waiver by the applicable State water quality agency is required under section 21 of the Federal Water Pollution Control Act (33 U.S.C. 1341(a)). Manufacturers that discharge a solid or liquid effluent into navigable waters submit this form.

Respondents: Business and other for profits.

Estimated Total Burden Hours: 4,000 hours.

OMB Number: 1513-0021.

Type of Review: Extension.

Title: Formula and Process for Non Beverage Product.

Forms: TTB 5164.1.

Description: Businesses using tax-paid distilled spirits to manufacture non beverage products may receive drawback (i.e., a refund or remittance) of tax, if they can show that the spirits were used in the manufacture of products unfit for beverage use. This showing is based on the formula for the product, which is submitted on TTB Form 5154.1.

Respondents: Businesses or other for-profit institutions.

Estimated Total Burden Hours: 2,444 hours.

OMB Number: 1513-0019.

Type of Review: Revision.

Title: Application for Amended Basic Permit under the Federal Alcohol Administration Act.

Forms: TTB 5100.18.

Description: TTB F 5100.18 is completed by permittees who change their operations in a manner that requires a new permit or receive a new notice. The information allows TTB to identify the permittee, the changes to the permit or business, and to determine whether the applicant still qualifies for a basic permit.

Respondents: Business and other for profits.

Estimated Total Burden Hours: 600 hours.

OMB Number: 1513-0018.

Type of Review: Revision.

Title: Application for Basic Permit under the Federal Alcohol Administration Act.

Forms: TTB 5100.24.

Description: TTB 5100.24 will be completed by persons intending to engage in a business involving beverage alcohol operations at a distilled spirits plant, bonded winery, or wholesaling/importing business. The information collected allows TTB to identify the applicant and the location of the business, and to determine whether the applicant qualifies for a permit.

Respondents: Business and other for profits.

Estimated Total Burden Hours: 2,800 hours.

OMB Number: 1513-0054.

Type of Review: Revision.

Title: Offer in Compromise of liability incurred under the provisions of Title 26 U.S.C. enforced and administered by the Alcohol and Tobacco Tax and Trade Bureau.

Forms: TTB 5640.1, 5600.17, 5600.18.

Description: TTB F 5640.1 is used by persons who wish to compromise criminal and/or civil penalties for violations of the IRC. If accepted, the offer in compromise is a settlement between the government and the party in violation in lieu of legal proceedings or prosecution. If the party is unable to pay the offer in full, TTB F 5600.17 and 5600.18 are used to gather financial information to develop an installment agreement to allow the party to pay without incurring a financial hardship. The agency is requesting a program change. The burden will increase because of two new forms. The added forms are filed only when the Offer In Compromise (OIC) form is filed, in conjunction with the OIC form. When the OIC is established one of the added forms are completed by those who are unable to pay in full.

Respondents: Business and other for profits.

Estimated Total Burden Hours: 140 hours.

Clearance Officer: Frank Foote (202) 927-9347, Alcohol and Tobacco Tax and Trade Bureau, Room 200 East, 1310 G Street, NW., Washington, DC 20005.

OMB Reviewer: Alexander T. Hunt (202) 395-7316, Office of Management and Budget, Room 10235, New Executive Office Building, Washington, DC 20503.

Robert Dahl,
Treasury PRA Clearance Officer.

[FR Doc. E8-16922 Filed 7-23-08; 8:45 am]

BILLING CODE 4810-31-P